Proclamation 7528 of March 2, 2002

Save Your Vision Week, 2002

By the President of the United States of America

A Proclamation

Healthy vision is a precious gift that allows us to enjoy the beauty of nature, the smile of a loved one, and the many wonders in the world around us. Unfortunately for 14 million Americans, eye problems can interfere with daily activities and inhibit the enjoyment of life.

Health officials have identified the most significant and preventable threats to vision. According to the Department of Health and Human Service's Healthy People 2010 report, visual impairment represents one of our country's 10 most frequent causes of disability.

To help avoid or remedy vision problems, we must remain dedicated to the prevention of eye injuries, emphasize early detection of eye disease, work to research and develop new treatments and rehabilitation therapies, and promote vision health awareness. All Americans should take steps to ensure that eye health becomes a priority in our homes, businesses, and communities. We should commit to receiving regular dilated eye examinations; we should wear protective eyewear when necessary, both recreationally and on the job; and we must make every effort to ensure children age 5 and under receive vision screening.

The Congress, by joint resolution approved December 30, 1963, as amended (77 Stat. 629; 36 U.S.C. 138), has authorized and requested the President to proclaim the first week in March of each year as “Save Your Vision Week.” During this year's observance, let us renew our commitment to fighting the causes of visual impairment and to supporting good eye health. I encourage all Americans to learn more about ways to prevent eye problems and to help others maintain the invaluable asset of eyesight.

NOW, THEREFORE, I, GEORGE W. BUSH, President of the United States of America, do hereby proclaim March 3 through March 9, 2002, as Save Your Vision Week. I urge all Americans to make eye care and eye safety an important part of their lives and to include dilated eye examinations in their regular health maintenance programs. I invite eye care professionals, the media, and all public and private organizations dedicated to preserving eyesight to join in activities that will raise awareness of measures we can take to protect and sustain our vision.

IN WITNESS WHEREOF, I have hereunto set my hand this second day of March, in the year of our Lord two thousand two, and of the Independence of the United States of America the two hundred and twenty-sixth.

B

[FR Doc. 02-5508

Filed 3-5-02; 8:45 am]

Billing code 3195-01-P